ENVIRONMENTAL PROTECTION AGENCY

[FRL-6842-4]

Regulatory Reinvention (XL) Pilot Projects

AGENCY: Environmental Protection Agency (EPA).

ACTION: Notice of availability of the Project XL Proposed Final Project Agreement: Buncombe County Leachate Recirculation/Gas Recovery (Bioreactor) Project.

SUMMARY: EPA is requesting comments on a proposed Project XL Final Project Agreement (FPA) for Buncombe County. The FPA is a voluntary agreement developed collaboratively by Buncombe County, the North Carolina Department of Environment and Natural Resources (NCDENR), and EPA. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

In the draft Final Project Agreement, Buncombe County proposes to use certain bioreactor techniques (e.g., leachate recirculation) at its municipal solid waste landfill (MSWLF), to accelerate the biodegradation of landfill waste and decrease the time it takes for the waste to stabilize in the landfill. The principal objectives of this bioreactor XL project are to evaluate performance of an alternative landfill liner and to assess waste decomposition when recirculated leachate is added to the landfill. To achieve the objectives of the project, Buncombe County proposes to recirculate leachate in MSWLF cells to be constructed with a liner that differs in certain respects from the liner design specified in the Subtitle D regulations. In order to carry out this project, Buncombe County would need relief from current Resource Conservation and Recovery Act (RCRA) Subtitle D regulations (40 CFR part 258), which set forth design and operating criteria. This criteria currently precludes the recirculation of leachate in Subtitle D landfill cells not constructed with the standard Subtitle D composite liner system. Buncombe County desires to construct the remainder of its landfill cells with an approved alternative liner while implementing this leachate recirculation/gas recovery project. Buncombe County is also seeking regulatory flexibility from the prohibition in 40 CFR 258.28, Liquid Restrictions, which currently precludes the addition of useful bulk or non-containerized liquid amendments. During periods of low leachate generation, Buncombe County desires to supplement the leachate flow with water from the adjoining French Broad River to maintain moisture levels in the landfill.

Some of the superior environmental benefits that Buncombe County expects to achieve with this project include: improved leachate quality; reduction in the potential for uncontrolled releases of leachate to contaminate the groundwater, or gas to contaminate the air during the post-closure phase (should a containment system failure occur); increased gas yield and capture; rapid waste biodegradation and stabilization; increased lifespan of the landfill resulting in less need for construction of additional landfills; reduced post-closure costs; and faster reclamation of land for future use.

The Buncombe County proposal is one of several bioreactor XL project proposals currently being considered by EPA. This proposed project to allow recirculation of leachate using an alternative landfill liner design will apply only to the Buncombe County Landfill in Asheville, North Carolina and the specific landfill cells at that landfill which are being considered under this proposal.

The terms and conditions pertaining to this XL pilot project are contained in the draft Final Project Agreement (FPA), on which EPA is requesting comment today. The draft FPA sets forth the intentions of EPA, Buncombe County, and the State of North Carolina with regard to the implementation of the project and the expected benefits. After review of the comments received during the public comment period and revision of the FPA, as appropriate, the FPA will be signed by representatives from the EPA, the State of North Carolina, and Buncombe County.

The legal implementing mechanism for this project will be a site-specific rule. The draft rule is scheduled for publication in the Federal Register for public review and comment in late August 2000. The proposed rule would be “conditional” and would depend on implementation of the alternative design proposed today. Upon completion of the rulemaking, this design would be enforceable in the same way that current RCRA standards for landfills are enforceable to ensure that management of nonhazardous solid waste is performed in a manner that is protective of human health and the environment. The Final Project Agreement and the site-specific rule will not in any way affect the provisions or applicability of any other existing or future regulations.

DATES: The period for submission of comments ends on August 28, 2000.

ADDRESSEES: All comments on the proposed Final Project Agreement should be sent to: Ms. Michelle Cook, US EPA, Region 4, 61 Forsyth Street, Atlanta, GA 30303, or Ms. Sherri Walker, US EPA, Ariel Rios Building, Mail Code 1802, 1200 Pennsylvania Avenue, NW, Washington, D.C. 20460. Comments may also be faxed to Michelle Cook (404) 562-8063 or Sherri Walker (202) 260-3125. Comments may also be received via electronic mail sent to: cook.michelle@epa.gov or walker.sherri@epa.gov.

FOR FURTHER INFORMATION CONTACT: To obtain a copy of the Project Fact Sheet or the proposed Final Project Agreement, contact: Michelle Cook, US EPA, Region 4, 61 Forsyth Street, Atlanta, GA 30303, or Sherri Walker, US EPA, Mail Code 1802, Ariel Rios Building, 1200 Pennsylvania Avenue, NW, Washington, D.C. 20460. The FPA and related documents are also available via the Internet at the following location: http://www.epa.gov/ProjectXL. In addition, the proposed FPA is available at the Buncombe County General Services Department, 30 Valley Street, Asheville, NC. Questions to EPA regarding the documents can be directed to Michelle Cook at (404) 562-8674 or Sherri Walker at (202) 260-4295. To be included on the Buncombe County Project XL mailing list about future public meetings, XL progress reports and other mailings from Buncombe County on the XL project, contact Bob Hunter, Director, Buncombe County General Services Department, (828) 250-5466. For information on all other aspects of the XL Program, contact Christopher Knopes at the following address: Office of Policy and Environmental Innovation, US EPA, Mail Code 1802, Ariel Rios Building, 1200 Pennsylvania Avenue, NW, Washington, D.C. 20460. Additional information on Project XL, including documents referenced in this notice, other EPA policy documents related to Project XL, regional XL contacts, application information, and descriptions of existing XL projects and proposals, is available via the Internet at http://www.epa.gov/Projectxl.

Dated: July 24, 2000.
Christopher A. Knopes,
Acting Director, Office of Environmental Policy Innovation.

[FR Doc. 00-19119 Filed 7-27-00; 8:45 am]

BILLING CODE 6560-50-P